DEPARTMENT OF LABOR

Office of the Secretary

Submission for OMB Review: Comment Request

September 10, 2007.

The Department of Labor (DOL) hereby announces the submission the following public information collection request (ICR) to the Office of Management and Budget (OMB) for review and approval in accordance with the Paperwork Reduction Act of 1995 (Pub. L. 104-13, 44 U.S.C. chapter 35). A copy of the ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: Katherine Astrich, OMB Desk Officer for the Employment and Training Administration (ETA), Office of Management and Budget, Room 10235, Washington, DC 20503, Telephone: 202-395-7316 / Fax: 202-395-6974 (these are not a toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Reinstatement without change of a previously approved collection.

Title: Attestations by Facilities Temporarily Employing H-1C Nonimmigrant Aliens as Registered Nurses.

OMB Number: 1205-0415.

Affected Public: Private Sector: Business or other for-profit and Not-for-profit institutions.

Estimated Number of Respondents: 14.

Estimated Total Burden Hours: 172.

Estimated Total Annual Costs Burden: $0.

Description: On November 12, 1999, the Nursing Relief for Disadvantaged Areas Act of 1999 (NRDAA), Public Law 106-95, amended the Immigration and Nationality Act (INA) to establish the H-1C program to reduce the shortage of qualified nurses in Health Professional Shortage Areas (HPSAs). The ETA and Employment Standards Administration (ESA) promulgated regulations at 20 CFR part 655, subparts L and M, governing the filing and enforcement of attestations by facilities seeking to employ aliens as registered nurses in HPSAs on a temporary basis. (See 65 FR 51149, Aug. 22, 2000.)

The NRDAA allows qualified hospitals to employ temporary foreign workers as registered nurses for up to three (3) years under the H-1C visas. Facilities seeking H-1C visas are required to file attestations with the Secretary of Labor. Each facility must attest that (1) It meets the definition of “facility” based on the Social Security Act and the Public Health Service Act, (2) it did not and will not lay off a registered nurse in the period between 90 days before and 90 days after the filing of any H-1C petition, (3) it will not employ a number of H-1C nurses that exceeds 33 percent of the total number of registered nurses employed at the facility, and (4) it will not authorize the H-1C nurse to perform nursing services at any worksite other than a worksite controlled by the facility or transfer the H-1C nurse's place of employment from one work place to another.

The NRDAA expired on June 13, 2005. However, on December 20, 2006, with the enactment of Public Law 109-423, Congress reauthorized the H-1C program for an additional three (3) years. The key provisions of the program remain unaffected and take effect immediately. The mechanism for employers or facilities to make attestations to the Secretary of Labor is the ETA Form 9081, and to expedite implementation of the reauthorized statute, the ETA is requesting a reinstatement, without modifications, to this information collection.

Darrin A. King,
Acting Departmental Clearance Officer.

[FR Doc. E7-18051 Filed 9-12-07; 8:45 am]

BILLING CODE 4510-FP-P